DEPARTMENT OF COMMERCE

National Institute of Standards and Technology

Visiting Committee on Advanced Technology

AGENCY: National Institute of Standards and Technology, Department of Commerce.

ACTION: Notice of public meeting; correction.

SUMMARY: The National Institute of Standards and Technology (NIST) originally published a document announcing an upcoming meeting of the Visiting Committee on Advanced Technology (VCAT or Committee) on August 23, 2016 (81 FR 57563). The meeting date and times have been updated. The VCAT will now meet in an open session on Tuesday, October 18, 2016 from 8:30 a.m. to 6:00 p.m. Mountain Time. The VCAT is composed of fifteen members appointed by the NIST Director who are eminent in such fields as business, research, new product development, engineering, labor, education, management consulting, environment, and international relations.

DATES: The VCAT will meet on Tuesday, October 18, 2016 from 8:30 a.m. to 6:00 p.m. Mountain Time.

ADDRESSES: The meeting will be held in the Katharine Blodgett Gebbie Laboratory Conference Room, Room 81-1A106, at NIST, 325 Broadway Street, Boulder, Colorado 80305. Please note admittance instructions under the SUPPLEMENTARY INFORMATION section of this notice.

FOR FURTHER INFORMATION CONTACT: Serena Martinez, VCAT, NIST, 100 Bureau Drive, Mail Stop 1060, Gaithersburg, Maryland 20899-1060, telephone number 301-975-2661. Mrs. Martinez's email address is serena.martinez@nist.gov.

SUPPLEMENTARY INFORMATION:

Authority: 15 U.S.C. 278 and the Federal Advisory Committee Act, as amended, 5 U.S.C. App.

The purpose of this meeting is for the VCAT to review and make recommendations regarding general policy for NIST, its organization, its budget, and its programs within the framework of applicable national policies as set forth by the President and the Congress. The agenda will include an update on major NIST programs and a presentation reviewing safety trends at NIST. There will be presentations and discussion about the evolution of NIST's research and development agenda over the past eight years and how to prioritize NIST's research in the future. The agenda will also include discussions on the adequacy of NIST's research facilities and the importance of a collaborative research environment. The agenda may change to accommodate Committee business. The final agenda will be posted on the NIST Web site at http://www.nist.gov/director/vcat/agenda.cfm.

Individuals and representatives of organizations who would like to offer comments and suggestions related to the Committee's affairs are invited to request a place on the agenda.

On Tuesday, October 18, approximately one-half hour in the afternoon will be reserved for public comments and speaking times will be assigned on a first-come, first-serve basis. The amount of time per speaker will be determined by the number of requests received, but is likely to be about 3 minutes each. The exact time for public comments will be included in the final agenda that will be posted on the NIST Web site at http://www.nist.gov/director/vcat/agenda.cfm. Questions from the public will not be considered during this period. Speakers who wish to expand upon their oral statements, those who had wished to speak but could not be accommodated on the agenda, and those who were unable to attend in person are invited to submit written statements to VCAT, NIST, 100 Bureau Drive, MS 1060, Gaithersburg, Maryland 20899, via fax at 301-216-0529 or electronically by email to stephanie.shaw@nist.gov.

All visitors to the NIST site are required to pre-register to be admitted. Please submit your name, time of arrival, email address and phone number to Serena Martinez by 5:00 p.m. Eastern Time, Tuesday, October 11, 2016. Non-U.S. citizens must submit additional information; please contact Mrs. Martinez. Mrs. Martinez's email address is serena.martinez@nist.gov and her phone number is 301-975-2661. For participants attending in person, please note that federal agencies, including NIST, can only accept a state-issued driver's license or identification card for access to federal facilities if such license or identification card is issued by a state that is compliant with the REAL ID Act of 2005 (P.L. 109-13), or by a state that has an extension for REAL ID compliance. NIST currently accepts other forms of federal-issued identification in lieu of a state-issued driver's license. For detailed information please contact Mrs. Martinez at 301-975-2661 or visit: http://nist.gov/public_affairs/visitor/.

Kent Rochford,
Associate Director for Laboratory Programs.

[FR Doc. 2016-24543 Filed 10-11-16; 8:45 am]

BILLING CODE 3510-13-P